FEDERAL ELECTION COMMISSION

Sunshine Act Notice

Special Executive Session

Date & Time: Thursday, February 16, 2006, at 3 p.m.

Place: 999 E Street, NW., Washington, DC.

Status: This meeting will be closed to the public pursuant to 11 CFR 2.4(b)(1) and 2.4(b)(2).

Items to be Discussed: Matters concerning internal personnel rules and procedures or matters affecting a particular employee.

Privileged or confidential information.

FOR FURTHER INFORMATION CONTACT: Mr. Robert Biersack, Press Officer, Telephone: (202) 694-1220.

Mary W. Dove,
Secretary of the Commission.

[FR Doc. 06-1547 Filed 2-15-06; 11:52 am]

BILLING CODE 6715-01-M